DEPARTMENT OF ENERGY

Federal Energy Regulatory Commission

[Docket No. EL08-84-000]

Arkansas Electric Energy Consumers, Inc., Complainant, v. Entergy Corporation, Entergy Services, Inc., Entergy Arkansas, Inc., Entergy Gulf States, Louisiana, Inc., Entergy Louisiana, L.L.C., Entergy Mississippi, Inc., Entergy New Orleans, Inc., Entergy Texas, Inc., Respondents; Notice of Complaint

August 25, 2008.

Take notice that on August 25, 2008, Arkansas Electric Energy Consumers, Inc. (Complainant) pursuant to sections 206 and 212 of the Rules and Practice and Procedure, 18 CFR 385.206 and 385.212 and sections 205 and 306 of the Federal Power Act, 16 U.S.C. 824(e) and 825(e), filed a formal complaint against Entergy Corporation; Entergy Services, Inc.; Entergy Arkansas, Inc.; Entergy Gulf States Louisiana, Inc.; Entergy Louisiana, L.L.C.; Entergy Mississippi, Inc.; Entergy New Orleans, Inc.; and Entergy Texas, Inc. (Respondents), requesting that the Commission review whether Entergy Corporation's decision to acquire a combined cycle gas turbine generating plant located near Sterlington, Louisiana, called the Ouachita Plant violates the Entergy System Agreement and is otherwise just and reasonable as required by the Federal Power Act. The Complainant also requests the Commission to determine that the Ouachita Plant is an Entergy Arkansas resource rather than an Entergy system resource.

The Complainant states that a copy of the complaint has been served on the contacts for the Respondents listed on the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 15, 2008.

Kimberly D. Bose,
Secretary.

[FR Doc. E8-20783 Filed 9-8-08; 8:45 am]

BILLING CODE 6717-01-P